COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds services to the Procurement List that will be furnished by nonprofit agencies employing persons who are blind or have other severe disabilities, and deletes products and services from the Procurement List previously furnished by such agencies.

DATES: Date added to and deleted from the Procurement List: August 11, 2019.

ADDRESSES: Committee for Purchase From People Who Are Blind or Severely Disabled, 1401 S Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION:

Additions

On June 7, 2019, the Committee for Purchase From People Who Are Blind or Severely Disabled published notice of proposed additions to the Procurement List.

After consideration of the material presented to it concerning capability of qualified nonprofit agencies to provide the services and impact of the additions on the current or most recent contractors, the Committee has determined that the service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 8501-8506) in connection with the services proposed for addition to the Procurement List.

End of Certification

Accordingly, the following products are added to the Procurement List:

Products

NSNs—Product Names:

7920-00-NIB-0731—Handle, Extension, Fiberglass, 5 ft -10 ft

Mandatory Source of Supply: Industries for the Blind and Visually Impaired, Inc., West Allis, WI

7930-00-NIB-0076—Anti-static Screen Cleaner, Spray bottle, 12 oz.

Mandatory Source of Supply: Chicago Lighthouse Industries, Chicago, IL

Mandatory for the Total Government Requirement

Contracting Activity: Federal Acquisition Service, GSA/FSS Greater Southwest Acquisition

NSNs—Product Names:

MR 13041—Box, Insulated, Assorted Colors, Lunch

MR 13042—Bag, Triangular, Assorted Colors, Lunch

MR 13044—Bag, Round Handle, Assorted Colors, Lunch

MR 11086—Bag, Tote, Reusable, Collapsible, Halloween

Mandatory Source of Supply: West Texas Lighthouse for the Blind, San Angelo, TX

Contracting Activity: Military Resale-Defense Commissary Agency

Deletions

On June 7, 2019, the Committee for Purchase From People Who Are Blind or Severely Disabled published notice of proposed deletions from the Procurement List.

After consideration of the relevant matter presented, the Committee has determined that the servicess listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the services to the Government.

3. There are no known regulatory alternatives which would accomplish the objectives of the Javits-Wagner-O'Day Act (41 U.S.C. 8501-8506) in connection with the services deleted from the Procurement List.

End of Certification

Accordingly, the following services are deleted from the Procurement List:

Services

Service Type: Janitorial/Custodial

Mandatory for: U.S. Army Space & Missile Defense Command, Arlington, VA

Mandatory Source of Supply: ServiceSource, Inc., Oakton, VA

Contracting Activity: Dept of the Army, W40M RHCO-ATLANTIC USAHCA

Service Type: Janitorial/Custodial

Mandatory for: U.S. Federal Building: Building #111 JFK International Airport, Jamaica, NY

Mandatory Source of Supply: Fedcap Rehabilitation Services, Inc., New York, NY

Contracting Activity: Public Buildings Service, GSA PBS R2 Acquisition Management Division

Service Type: Food Service

Mandatory for: Ellington Field Air National Guard Base: Texas Air National Guard, 147 Fighter Wing, Houston, TX

Mandatory Source of Supply: CRI Federal Services, Houston, TX

Contracting Activity: Dept of the Army, W7N2 USPFO Activity TX ARNG

Service Type: Laundry Service

Mandatory for: U.S. Mint: 155 Hermann Street, San Francisco, CA

Mandatory Source of Supply: Toolworks, Inc., San Francisco, CA

Contracting Activity: Dept of Treas/U.S. Mint

Service Type: Laundry and Linen Service

Mandatory for: US Air Force, MacDill AFB, FL

Mandatory Source of Supply: Goodwill Industries of South Florida, Inc., Miami, FL

Contracting Activity: Dept of the Air Force, FA4814 6 CONS LGCP

Service Type: Document Destruction Service

Mandatory for: USDA, 6200 Jefferson St. NE, Albuquerque, NM

Mandatory Source of Supply: Adelante Development Center, Inc., Albuquerque, NM

Contracting Activity: Natural Resources Conservation Service, NM State Office (NRCS)

Service Type: Janitorial/Custodial

Mandatory for: Defense Logistics Agency: Defense Fuel Region West, Building 100, San Pedro, CA

Contracting Activity: Defense Logistics Agency, DLA Support Services—DSS

Patricia Briscoe,
Deputy Director, Business Operations (Pricing and Information Management).

[FR Doc. 2019-14818 Filed 7-11-19; 8:45 am]

BILLING CODE 6353-01-P